DEPARTMENT OF THE INTERIOR

Minerals Management Service

30 CFR Part 250

[Docket ID: MMS-2008-OMM-0044]

RIN 1010-AD54

Update of Revised and Reaffirmed Documents Incorporated by Reference

AGENCY: Minerals Management Service (MMS), Interior.

ACTION: Final rule.

SUMMARY: This final rule incorporates 21 revised editions and 17 reaffirmed editions of documents previously incorporated by reference in regulations governing oil and gas and sulphur operations in the Outer Continental Shelf. Additionally, this final rule will rectify an incorrect reference to American Petroleum Institute (API) 510. The revised and reaffirmed editions of these documents will ensure that lessees use the best and safest technologies available while operating in the Outer Continental Shelf.

DATES: Effective Date: This final rule is effective May 28, 2010. The incorporation by reference of publications listed in the regulation is approved by the Director of the Federal Register as of May 28, 2010.

FOR FURTHER INFORMATION CONTACT: Wilbon Rhome at (703) 787-1587.

SUPPLEMENTARY INFORMATION: The MMS uses standards, specifications, and recommended practices developed by standard-setting organizations and the oil and gas industry as a means of establishing requirements for activities on the Outer Continental Shelf (OCS). This practice, known as incorporation by reference, allows us to incorporate the provisions of technical standards into the regulations. The legal effect of incorporation by reference is that the material is treated as if the entire document was published in the Federal Register. This material, like any other properly issued regulation, then has the force and effect of law. We hold operators/lessees accountable for complying with the documents incorporated by reference in our regulations. We currently incorporate by reference 97 consensus standards into the offshore operating regulations.

The regulations at 1 CFR part 51 govern how we and other Federal agencies incorporate various documents by reference. Agencies may only incorporate a document by reference by publishing the document title and affirmation/reaffirmation date in the Federal Register. Agencies must also gain approval from the Director of the Federal Register for each publication incorporated by reference. Incorporation by reference of a document or publication is limited to the specific edition, supplement, or addendum cited in the regulations. The MMS is reformatting the appearance of this section in the regulations concerning documents incorporated by reference. This section, 30 CFR 250.198, will now be formatted to be consistent with the guidance provided by the Office of the Federal Register. This new format will continue to clearly identify the documents incorporated by reference in the 30 CFR part 250 regulations.

Under 5 U.S.C. 553 and the regulations found at 30 CFR 250.198(a), MMS may update documents without an opportunity for public comment when we determine that the revisions to a document result in safety improvements, or represent new industry standard technology and do not impose undue cost or burden on the affected parties. Accordingly, this final rule incorporates the revised editions of 21 documents and 17 reaffirmed documents previously incorporated by reference in regulations governing oil and gas and sulphur operations in the OCS. These new and reaffirmed documents will ensure that lessees use the best and safest technologies available while operating in the OCS.

In this final rule, “reaffirmed” references an action taken by the American Petroleum Institute (API) standards committee, normally within a 5-year timeframe, and confirms that the information contained within the standard is still applicable and requires no change at this time. Also, the edition number and date of the standard does not change as a result of reaffirmation by the standards committee. Additionally, we are correcting a reference to API 510, Pressure Vessel Inspections Code: In-Service Inspection, Rating, Repair, and Alteration, in our regulations at § 250.803(b)(1) and § 250.1629(b)(1) to make a section reference change (from 6.5 and 8.5 to 5.8 and 9.5).

The MMS has reviewed these documents and determined the revised editions must be incorporated into the regulations to ensure the use of the best and safest technologies. Our review shows that changes between the old and new editions result in safety improvements, or represent new industry standard technology and will not impose undue cost or burden on the offshore oil and gas industry. Furthermore, old editions may not be readily available to the affected parties because they are out of publication, so we are amending our regulations to incorporate the updated editions.

Revised Editions

The revised editions of the documents incorporated by reference in this final rule are:

Title of Documents
API MPMS, Chapter 10—Sediment and Water, Section 1—Standard Test Method for Sediment in Crude Oils and Fuel Oils by the Extraction Method, Third Edition, November 2007; Product No. H10013.
API MPMS, Chapter 10—Sediment and Water, Section 2—Standard Test; Method for Water in Crude Oil by Distillation, Second Edition, November 2007; Product No. H10022.
API MPMS, Chapter 10—Sediment and Water, Section 3—Standard Test Method for Water and Sediment in Crude Oil by the Centrifuge Method (Laboratory Procedure), Third Edition, May 2008; Product No. H10033.
API MPMS, Chapter 14.5/GPA Standard 2172-09; Calculation of Gross Heating Value, Relative Density, Compressibility and Theoretical Hydrocarbon Liquid Content for Natural Gas Mixtures for Custody Transfer; Third Edition, January 2009; Adopted as Tentative Standard, 1972; Revised and Adopted as Standard, 1976; Revised 1984, 1986, 1996, 2009; Product No. H140503.
API RP 2A-WSD, Recommended Practice for Planning, Designing and Constructing Fixed Offshore Platforms—Working Stress Design, Twenty-first Edition, December 2000; Errata and Supplement 1, December 2002; Errata and Supplement 2, September 2005, Errata and Supplement 3, October 2007; Product No. G2AWSD.
API RP 2D, Operation and Maintenance of Offshore Cranes, Sixth Edition, May 2007; Product No. G02D06.
API RP 2I, In-service Inspection of Mooring Hardware for Floating Structures, Third Edition, April 2008; Product No. G02I03.
API RP 2SK, Design and Analysis of Stationkeeping Systems for Floating Structures, Third Edition, October 2005, Addendum, May 2008; Product No. G2SK03.
API RP 2SM Recommended Practice for Design, Manufacture, Installation, and Maintenance of Synthetic Fiber Ropes for Offshore Mooring, First Edition, March 2001, Addendum, May 2007; Product No. G02SM1.
API RP 14F, Design, Installation, and Maintenance of Electrical Systems for Fixed and Floating Offshore Petroleum Facilities for Unclassified and Class I, Division 1 and Division 2 Locations, Fifth Edition, July 2008; Product No. G14F05.
API RP 14G, Recommended Practice for Fire Prevention and Control on Fixed Open-Type Offshore Production Platforms, Fourth Edition, April 2007; Product No. G14G04.
API RP 14H, Recommended Practice for Installation, Maintenance and Repair of Surface Safety Valves and Underwater Safety Valves Offshore, Fifth Edition, August 2007; Product No. G14H05.
ANSI/API Spec. Q1, Specification for Quality Programs for the Petroleum, Petrochemical and Natural Gas Industry, ISO TS 29001:2007 (Identical), Petroleum, petrochemical and natural gas industries—Sector specific requirements—Requirements for product and service supply organizations, Eighth Edition, December 2007, Effective Date: June 15, 2008; Product No. GXQ108.
ANSI/API Spec. 6A, Specification for Wellhead and Christmas Tree Equipment, Nineteenth Edition, July 2004; Effective Date: February 1, 2005; Contains API Monogram Annex as Part of U.S. National Adoption; ISO 10423:2003 (Modified), Petroleum and natural gas industries—Drilling and production equipment—Wellhead and Christmas tree equipment; Errata 1, September 2004, Errata 2, April 2005, Errata 3, June 2006, Errata 4, August 2007, Errata 5, May 2009; Addendum 1, February 2008; Addendum 2, 3, and 4, December 2008; Product No. GX06A19.
ANSI/API Spec. 6D, Specification for Pipeline Valves, Twenty-third Edition, April 2008; Effective Date: October 1, 2008, Errata 1, June 2008; Errata 2, November 2008; Errata 3, February 2009; Addendum 1, October 2009; Contains API Monogram Annex as Part of U.S. National Adoption; ISO 14313:2007 (Identical), Petroleum and natural gas industries—Pipeline transportation systems—Pipeline valves; Product No. GX6D23.
ANSI/API Spec. 17J, Specification for Unbonded Flexible Pipe, Third Edition, July 2008; Effective Date: January 1, 2009, Contains API Monogram Annex as Part of U.S. National Adoption; ISO 13628-2:2006 (Identical), Petroleum and natural gas industries—Design and operation of subsea production systems—Part 2: Unbonded flexible pipe systems for subsea and marine application; Product No. GX17J03.
ASTM Standard C 33-07, approved December 15, 2007, Standard Specification for Concrete Aggregates.
ASTM Standard C 94/C 94M-07, approved January 1, 2007, Standard Specification for Ready-Mixed Concrete.
ASTM Standard C 150-07, approved May 1, 2007, Standard Specification for Portland Cement.
ASTM Standard C 330-05, approved December 15, 2005, Standard Specification for Lightweight Aggregates for Structural Concrete.
ASTM Standard C 595-08, approved January 1, 2008, Standard Specification for Blended Hydraulic Cements.

Reaffirmed Documents

The reaffirmed documents incorporated by reference in this final rule are:

Title of Documents
API MPMS, Chapter 2—Tank Calibration, Section 2A—Measurement and Calibration of Upright Cylindrical Tanks by the Manual Tank Strapping Method, First Edition, February 1995; reaffirmed February 2007, Order No. 852-022A1.
API MPMS, Chapter 2—Tank Calibration, Section 2B—Calibration of Upright Cylindrical Tanks Using the Optical Reference Line Method, First Edition, March 1989; reaffirmed, December 2007, Order No. H30023.
API MPMS, Chapter 3—Tank Gauging, Section 1B—Standard Practice for Level Measurement of Liquid Hydrocarbons in Stationary Tanks by Automatic Tank Gauging, Second Edition, June 2001; reaffirmed, October 2006, Product No. H301B2.
API MPMS, Chapter 4—Proving Systems, Section 4—Tank Provers, Second Edition, May 1998; reaffirmed November 2005, Order No. H04042.
API MPMS, Chapter 4—Proving Systems, Section 5—Master-Meter Provers, Second Edition, May 2000; reaffirmed: August 2005, Order No. H04052.
API MPMS, Chapter 6—Metering Assemblies, Section 1—Lease Automatic Custody Transfer (LACT) Systems, Second Edition, May 1991; reaffirmed, April 2007, Order No. H30121.
API MPMS, Chapter 6—Metering Assemblies, Section 6—Pipeline Metering Systems, Second Edition, May 1991; reaffirmed, February 2007, Order No. 852-30126.
API MPMS, Chapter 6—Metering Assemblies, Section 7—Metering Viscous Hydrocarbons, Second Edition, May 1991; reaffirmed, April 2007, Order No. 852-30127.
API MPMS, Chapter 7—Temperature Determination, First Edition, June 2001; reaffirmed, March 2007, Product No. H07001.
API MPMS, Chapter 11.2.2-Compressibility Factors for Hydrocarbons: 0.350-0.637 Relative Density (60°F/60°F) and -50°F to 140°F Metering Temperature, Second Edition, October 1986; reaffirmed December 2007, Order No. 852-27307.
API MPMS, Chapter 14—Natural Gas Fluids Measurement; Section 3—Concentric, Square-Edged Orifice Meters; Part 3—Natural Gas Applications; Third Edition, August 1992; Errata March 1994, reaffirmed, February 2009, Product No. H143303.
API MPMS, Chapter 14—Natural Gas Fluids Measurement, Section 8—Liquefied Petroleum Gas Measurement, Second Edition, July 1997; reaffirmed, March 2006, Order No. H14082.
API RP 14C, Recommended Practice for Analysis, Design, Installation, and Testing of Basic Surface Safety Systems for Offshore Production Platforms, Seventh Edition, March 2001; reaffirmed: March 2007, Product No. C14C07.
API RP 14E, Recommended Practice for Design and Installation of Offshore Production Platform Piping Systems, Fifth Edition, October 1991; reaffirmed, March 2007, Order No. 811-07185.
API RP 14FZ, Recommended Practice for Design and Installation of Electrical Systems for Fixed and Floating Offshore Petroleum Facilities for Unclassified and Class I, Zone 0, Zone 1 and Zone 2 Locations, First Edition, September 2001; reaffirmed: March 2007, Product No. G14FZ1.
API RP 14J, Recommended Practice for Design and Hazards Analysis for Offshore Production Facilities, Second Edition, May 2001; reaffirmed: March 2007, Product No. G14J02.
API Standard 2552, USA Standard Method for Measurement and Calibration of Spheres and Spheroids, First Edition, 1966; reaffirmed, October 2007 (ASTM designation: D 1408-65; date of joint API/ASTM approval, 1965).

The purpose of this final rule is to incorporate the revision of some documents previously incorporated by reference into MMS regulations, and to acknowledge the reaffirmation of other documents previously incorporated by reference into MMS regulations.

Procedural Matters

Regulatory Planning and Review (Executive Order (E.O.) 12866)

This final rule is not a significant rule as determined by the Office of Management and Budget (OMB) and is not subject to review under E.O. 12866.

(1) The final rule will not have an annual effect of $100 million or more on the economy. It will not adversely affect in a material way the economy, productivity, competition, jobs, the environment, public health or safety, or State, local, or tribal governments or communities. This final rule will not have any new requirements.

(2) The final rule will not create a serious inconsistency or otherwise interfere with an action taken or planned by another agency.

(3) The final rule will not alter the budgetary effects or entitlements, grants, user fees, or loan programs, or the rights or obligations of their recipients. The changes in this final rule will not impose undue cost on the offshore oil and gas industry.

(4) The final rule will not raise novel legal or policy issues arising out of legal mandates, the President's priorities, or the principles set forth in E.O. 12866.

Regulatory Flexibility Act

The Department of the Interior certifies that this final rule will not have a significant economic effect on a substantial number of small entities under the Regulatory Flexibility Act (5 U.S.C. 601 et seq.).

The changes in this final rule will affect lessees and operators of leases and pipeline right-of-way holders on the OCS. This could include about 130 active Federal oil and gas lessees. Small lessees that operate under this rule fall under the Small Business Administration's (SBA) North American Industry Classification System (NAICS) codes 211111, Crude Petroleum and Natural Gas Extraction, and 213111, Drilling Oil and Gas Wells. For these NAICS code classifications, a small company is one with fewer than 500 employees. Based on these criteria, an estimated 70 percent of these companies are considered small. This final rule, therefore will affect a substantial number of small entities. However, the changes in the rule will not have a significant economic effect on a substantial number of small entities because it will not impose new costs or burdens on the offshore oil and gas industry.

Your comments are important. The Small Business and Agriculture Regulatory Enforcement Ombudsman and 10 Regional Fairness boards were established to receive comments from small businesses about Federal agency enforcement actions. The Ombudsman will annually evaluate the enforcement activities and rate each agency's responsiveness to small businesses. If you wish to comment on the actions of MMS, call 1-888-734-3247. You may comment to the Small Business Administration without fear of retaliation. Allegations of discrimination/retaliation filed with the Small Business Administration will be investigated for appropriate action.

Small Business Regulatory Enforcement Fairness Act

The final rule is not a major rule under the Small Business Regulatory Enforcement Fairness Act (5 U.S.C. 801 et seq.). This final rule:

a. Will not have an annual effect on the economy of $100 million or more. The only costs will be the purchase of the new API documents and minor revisions to some operating and maintenance procedures.

b. Will not cause a major increase in costs or prices for consumers, individual industries, Federal, State, or local government agencies, or geographic regions.

c. Will not have significant adverse effects on competition, employment, investment, productivity, innovation, or the ability of U.S.-based enterprises to compete with foreign-based enterprises.

Unfunded Mandates Reform Act

This final rule will not impose an unfunded mandate on State, local, and tribal governments or the private sector of more than $100 million per year. The rule will not have a significant or unique effect on State, local, or tribal governments or the private sector. A statement containing the information required by the Unfunded Mandates Reform Act (2 U.S.C. 1501 et seq.) is not required.

Takings Implication Assessment (E.O. 12630)

Under the criteria in E.O. 12630, this final rule does not have significant takings implications. The final rule is not a governmental action capable of interference with constitutionally protected property rights. A Takings Implication Assessment is not required.

Federalism (E.O. 13132)

Under the criteria in E.O. 13132, this final rule does not have federalism implications. This final rule will not substantially and directly affect the relationship between the Federal and State governments. To the extent that State and local governments have a role in OCS activities, this final rule will not affect that role. A Federalism Assessment is not required.

Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175)

Under the criteria in E.O. 13175, we have evaluated this rule and determined that it has no substantial effects on federally recognized Indian tribes.

Paperwork Reduction Act (PRA) of 1995

This rulemaking does not contain any information collection requirements and does not require a submission to Office of Management and Budget for review and approval subject to the Paperwork Reduction Act of 1995 (44 U.S.C. 3501 et seq.).

National Environmental Policy Act (NEPA) of 1969

This rule does not constitute a major Federal action significantly affecting the quality of the human environment. A detailed statement under the NEPA of 1969 is not required because the rule is covered by a categorical exclusion. The MMS has analyzed this rule under the criteria of the NEPA and 516 Departmental Manual Chapter 15.4.C(1). We have also determined that the rule does not involve any of the extraordinary circumstances listed in 43 CFR 42.215 that would require further analysis under the NEPA.

Data Quality Act

In developing this rule, we did not conduct or use a study, experiment, or survey requiring peer review under the Data Quality Act (Pub. L. 106-554, app. C § 515, 114 Stat. 2763, 2763A-153-154).

Effects on the Energy Supply (E.O. 13211)

This rule is not a significant energy action under the definition in E.O. 13211. A Statement of Energy Effects is not required.

List of Subjects in 30 CFR Part 250

Continental shelf, Incorporation by reference, Oil and gas exploration, Pipelines, Public lands—mineral resources, Reporting and recordkeeping requirements.

Dated: March 11, 2010.
Ned Farquhar,
Deputy Assistant Secretary—Land and Minerals Management.

For the reasons stated in the preamble, Minerals Management Service (MMS) is amending 30 CFR part 250 as follows:

PART 250—OIL AND GAS AND SULPHUR OPERATIONS IN THE OUTER CONTINENTAL SHELF

1. The authority citation for part 250 continues to read as follows:

Authority: 31 U.S.C. 9701, 43 U.S.C. 1334.

2. Revise § 250.198 to read as follows:

§ 250.198 Documents incorporated by reference.

(a) The MMS is incorporating by reference the documents listed in paragraphs (e) through (k) of this section. Paragraphs (e) through (k) identify the publishing organization of the documents, the address and phone number where you may obtain these documents, and the documents incorporated by reference. The Director of the Federal Register has approved the incorporations by reference according to 5 U.S.C. 552(a) and 1 CFR part 51.

(1) Incorporation by reference of a document is limited to the edition of the publication that is cited in this section. Future amendments or revisions of the document are not included. The MMS will publish any changes to a document in the Federal Register and amend this section.

(2) The MMS may make the rule amending the document effective without prior opportunity for public comment when MMS determines:

(i) That the revisions to a document result in safety improvements or represent new industry standard technology and do not impose undue costs on the affected parties; and

(ii) The MMS meets the requirements for making a rule immediately effective under 5 U.S.C. 553.

(b) The MMS incorporated each document or specific portion by reference in the sections noted. The entire document is incorporated by reference, unless the text of the corresponding sections in this part calls for compliance with specific portions of the listed documents. In each instance, the applicable document is the specific edition or specific edition and supplement or addendum cited in this section.

(c) Under §§ 250.141 and 250.142, you may comply with a later edition of a specific document incorporated by reference, provided:

(1) You show that complying with the later edition provides a degree of protection, safety, or performance equal to or better than would be achieved by compliance with the listed edition; and

(2) You obtain the prior written approval for alternative compliance from the authorized MMS official.

(d) You may inspect these documents at the Minerals Management Service, 381 Elden Street, Room 3313, Herndon, Virginia 20170; phone: 703-787-1587; or at the National Archives and Records Administration (NARA). For information on the availability of this material at NARA, call 202-741-6030, or go to: http://www.archives.gov/federal_register/code_of_federal_regulations/ibr_locations.html.

(e) American Concrete Institute (ACI), ACI Standards, P. O. Box 9094, Farmington Hill, MI 48333-9094: http://www.concrete.org; phone: 248-848-3700:

(1) ACI Standard 318-95, Building Code Requirements for Reinforced Concrete (ACI 318-95) and Commentary (ACI 318R-95), incorporated by reference at § 250.901(a), (d).

(2) ACI 357R-84, Guide for the Design and Construction of Fixed Offshore Concrete Structures, 1984; reapproved 1997, incorporated by reference at § 250.901(a), (d).

(f) American Institute of Steel Construction, Inc. (AISC), AISC Standards, One East Wacker Drive, Suite 700, Chicago, IL 60601-1802; http://www.aisc.org; phone: 312-670-2400:

(1) ANSI/AISC 360-05, Specification for Structural Steel Buildings incorporated by reference at § 250.901(a), (d).

(2) [Reserved]

(g) American National Standards Institute (ANSI), ANSI/ASME Codes, ATTN: Sales Department, 25 West 43rd Street, 4th Floor, New York, NY 10036; http://www.ansi.org; phone: 212-642-4900; and/or American Society of Mechanical Engineers (ASME), 22 Law Drive, P.O. Box 2900, Fairfield, NJ 07007-2900; http://www.asme.org; phone: 973-882-5155:

(1) ANSI/ASME Boiler and Pressure Vessel Code, Section I, Rules for Construction of Power Boilers; including Appendices, 2004 Edition; and July 1, 2005 Addenda, and all Section I Interpretations Volume 55, incorporated by reference at § 250.803(b)(1), (b)(1)(i); and § 250.1629(b)(1), (b)(1)(i);

(2) ANSI/ASME Boiler and Pressure Vessel Code, Section IV, Rules for Construction of Heating Boilers; including Appendices 1, 2, 3, 5, 6, and Non-mandatory Appendices B, C, D, E, F, H, I, K, L, and M, and the Guide to Manufacturers Data Report Forms, 2004 Edition; July 1, 2005 Addenda, and all Section IV Interpretations Volume 55, incorporated by reference at § 250.803(b)(1), (b)(1)(i); and § 250.1629(b)(1), (b)(1)(i);

(3) ANSI/ASME Boiler and Pressure Vessel Code, Section VIII, Rules for Construction of Pressure Vessels; Divisions 1 and 2, 2004 Edition; July 1, 2005 Addenda, Divisions 1 and 2, and all Section VIII Interpretations Volumes 54 and 55, incorporated by reference at § 250.803(b)(1), (b)(1)(i); and § 250.1629(b)(1), (b)(1)(i);

(4) ANSI/ASME B 16.5-2003, Pipe Flanges and Flanged Fittings incorporated by reference at § 250.1002(b)(2);

(5) ANSI/ASME B 31.8-2003, Gas Transmission and Distribution Piping Systems incorporated by reference at § 250.1002(a);

(6) ANSI/ASME SPPE-1-1994 and SPPE-1d-1996 Addenda, Quality Assurance and Certification of Safety and Pollution Prevention Equipment Used in Offshore Oil and Gas Operations, incorporated by reference at § 250.806(a)(2)(i);

(7) ANSI Z88.2-1992, American National Standard for Respiratory Protection, incorporated by reference at, § 250.490(g)(4)(iv), (j)(13)(ii).

(h) American Petroleum Institute (API), API Recommended Practices (RP), Specs, Standards, Manual of Petroleum Measurement Standards (MPMS) chapters, 1220 L Street, NW., Washington, DC 20005-4070; http://www.api.org; phone: 202-682-8000:

(1) API 510, Pressure Vessel Inspection Code: In-Service Inspection, Rating, Repair, and Alteration, Downstream Segment, Ninth Edition, June 2006, Product No. C51009; incorporated by reference at § 250.803(b)(1); and § 250.1629(b)(1);

(2) API Bulletin 2INT-DG, Interim Guidance for Design of Offshore Structures for Hurricane Conditions, May 2007, Product No. G2DGINT; incorporated by reference at § 250.901(a), (d);

(3) API Bulletin 2INT-EX, Interim Guidance for Assessment of Existing Offshore Structures for Hurricane Conditions, May 2007, Product No. G2EXINT; incorporated by reference at § 250.901(a), (d);

(4) API Bulletin 2INT-MET, Interim Guidance on Hurricane Conditions in the Gulf of Mexico, May 2007, Product No. G2INTMET; incorporated by reference at § 250.901(a), (d);

(5) API MPMS, Chapter 1—Vocabulary, Second Edition, July 1994, Order No. 852-01002; incorporated by reference at § 250.1201;

(6) API MPMS, Chapter 2—Tank Calibration, Section 2A—Measurement and Calibration of Upright Cylindrical Tanks by the Manual Tank Strapping Method, First Edition, February 1995; reaffirmed February 2007, Order No. 852-022A1; incorporated by reference at § 250.1202(l)(4);

(7) API MPMS, Chapter 2—Tank Calibration, Section 2B—Calibration of Upright Cylindrical Tanks Using the Optical Reference Line Method, First Edition, March 1989; reaffirmed, December 2007, Order No. H30023; incorporated by reference at § 250.1202(l)(4);

(8) API MPMS, Chapter 3—Tank Gauging, Section 1A—Standard Practice for the Manual Gauging of Petroleum and Petroleum Products, Second Edition, August 2005, Product No. H301A02; incorporated by reference at § 250.1202(l)(4);

(9) API MPMS, Chapter 3—Tank Gauging, Section 1B—Standard Practice for Level Measurement of Liquid Hydrocarbons in Stationary Tanks by Automatic Tank Gauging, Second Edition, June 2001, reaffirmed, October 2006, Product No. H301B2; incorporated by reference at § 250.1202(l)(4);

(10) API MPMS, Chapter 4—Proving Systems, Section 1—Introduction, Third Edition, February 2005, Product No. H04013; incorporated by reference at § 250.1202(a)(3), (f)(1);

(11) API MPMS, Chapter 4—Proving Systems, Section 2—Displacement Provers, Third Edition, September 2003, Product No. H04023; incorporated by reference at § 250.1202(a)(3), (f)(1);

(12) API MPMS, Chapter 4—Proving Systems, Section 4—Tank Provers, Second Edition, May 1998, reaffirmed November 2005, Order No. H04042; incorporated by reference at § 250.1202(a)(3), (f)(1);

(13) API MPMS, Chapter 4—Proving Systems, Section 5—Master-Meter Provers, Second Edition, May 2000, reaffirmed: August 2005, Order No. H04052; incorporated by reference at § 250.1202(a)(3), (f)(1);

(14) API MPMS, Chapter 4—Proving Systems, Section 6—Pulse Interpolation, Second Edition, May 1999; reaffirmed 2003, Order No. H04062; incorporated by reference at § 250.1202(a)(3), (f)(1);

(15) API MPMS, Chapter 4—Proving Systems, Section 7—Field Standard Test Measures, Second Edition, December 1998; reaffirmed 2003, Order No. H04072; incorporated by reference at § 250.1202(a)(3), (f)(1);

(16) API MPMS, Chapter 5—Metering, Section 1—General Considerations for Measurement by Meters, Fourth Edition, September 2005, Product No. H05014; incorporated by reference at § 250.1202(a)(3);

(17) API MPMS, Chapter 5—Metering, Section 2—Measurement of Liquid Hydrocarbons by Displacement Meters, Third Edition, September 2005, Product No. H05023; incorporated by reference at § 250.1202(a)(3);

(18) API MPMS Chapter 5—Metering, Section 3—Measurement of Liquid Hydrocarbons by Turbine Meters, Fifth Edition, September 2005, Product No. H05035; incorporated by reference at § 250.1202(a)(3);

(19) API MPMS, Chapter 5—Metering, Section 4—Accessory Equipment for Liquid Meters, Fourth Edition, September 2005, Product No. H05044; incorporated by reference at § 250.1202(a)(3);

(20) API MPMS, Chapter 5—Metering, Section 5—Fidelity and Security of Flow Measurement Pulsed-Data Transmission Systems, Second Edition, August 2005, Product No. H50502; incorporated by reference at § 250.1202(a)(3);

(21) API MPMS, Chapter 6—Metering Assemblies, Section 1—Lease Automatic Custody Transfer (LACT) Systems, Second Edition, May 1991; reaffirmed, April 2007, Order No. H30121; incorporated by reference at § 250.1202(a)(3);

(22) API MPMS, Chapter 6—Metering Assemblies, Section 6—Pipeline Metering Systems, Second Edition, May 1991; reaffirmed, February 2007, Order No. 852-30126; incorporated by reference at § 250.1202(a)(3);

(23) API MPMS, Chapter 6—Metering Assemblies, Section 7—Metering Viscous Hydrocarbons, Second Edition, May 1991; reaffirmed, April 2007, Order No. 852-30127; incorporated by reference at § 250.1202(a)(3);

(24) API MPMS, Chapter 7—Temperature Determination, First Edition, June 2001; reaffirmed, March 2007; Product No. H07001; incorporated by reference at § 250.1202(a)(3), (l)(4);

(25) API MPMS, Chapter 8—Sampling, Section 1—Standard Practice for Manual Sampling of Petroleum and Petroleum Products, Third Edition, October 1995; reaffirmed, March 2006, Order No. H08013; incorporated by reference at § 250.1202(b)(4)(i), (l)(4);

(26) API MPMS, Chapter 8—Sampling, Section 2—Standard Practice for Automatic Sampling of Liquid Petroleum and Petroleum Products, Second Edition, October 1995; reaffirmed, June 2005, Order No. H08022; incorporated by reference at § 250.1202(a)(3), (l)(4);

(27) API MPMS, Chapter 9—Density Determination, Section 1—Standard Test Method for Density, Relative Density (Specific Gravity), or API Gravity of Crude Petroleum and Liquid Petroleum Products by Hydrometer Method, Second Edition, December 2002; reaffirmed October 2005, Product No. H09012; incorporated by reference at § 250.1202(a)(3), (l)(4);

(28) API MPMS, Chapter 9—Density Determination, Section 2—Standard Test Method for Density or Relative Density of Light Hydrocarbons by Pressure Hydrometer, Second Edition, March 2003, Product No. H09022; incorporated by reference at § 250.1202(a)(3), (l)(4);

(29) API MPMS, Chapter 10—Sediment and Water, Section 1—Standard Test Method for Sediment in Crude Oils and Fuel Oils by the Extraction Method, Third Edition, November 2007, Product No. H10013; incorporated by reference at § 250.1202(a)(3), (l)(4);

(30) API MPMS, Chapter 10—Sediment and Water, Section 2—Standard Test Method for Water in Crude Oil by Distillation, Second Edition, November 2007, Product No. H10022; incorporated by reference at § 250.1202(a)(3), (l)(4);

(31) API MPMS, Chapter 10—Sediment and Water, Section 3—Standard Test Method for Water and Sediment in Crude Oil by the Centrifuge Method (Laboratory Procedure), Third Edition, May 2008, Product No. H10033; incorporated by reference at § 250.1202(a)(3), (l)(4);

(32) API MPMS, Chapter 10—Sediment and Water, Section 4—Determination of Water and/or Sediment in Crude Oil by the Centrifuge Method (Field Procedure), Third Edition, December 1999, Order No. H10043; incorporated by reference at § 250.1202(a)(3), (l)(4);

(33) API MPMS, Chapter 10—Sediment and Water, Section 9—Standard Test Method for Water in Crude Oils by Coulometric Karl Fischer Titration, Second Edition, December 2002; reaffirmed 2005, Product No. H10092; incorporated by reference at § 250.1202(a)(3), (l)(4);

(34) API MPMS, Chapter 11.1—Volume Correction Factors, Volume 1, Table 5A—Generalized Crude Oils and JP-4 Correction of Observed API Gravity to API Gravity at 60 °F, and Table 6A—Generalized Crude Oils and JP-4 Correction of Volume to 60 °F Against API Gravity at 60 °F, API Standard 2540, First Edition, August 1980; reaffirmed March 1997, API Stock No. H27000; incorporated by reference at § 250.1202(a)(3), (g)(3), (l)(4);

(35) API MPMS, Chapter 11.2.2—Compressibility Factors for Hydrocarbons: 0.350-0.637 Relative Density (60 °F/60 °F) and −50 °F to 140 °F Metering Temperature, Second Edition, October 1986; reaffirmed: December 2007, Order No. 852-27307; incorporated by reference at § 250.1202(a)(3), (g)(4);

(36) API MPMS, Chapter 11—Physical Properties Data, Addendum to Section 2, Part 2—Compressibility Factors for Hydrocarbons, Correlation of Vapor Pressure for Commercial Natural Gas Liquids, First Edition, December 1994; reaffirmed, December 2002, Order No. H27308; incorporated by reference at § 250.1202(a)(3);

(37) API MPMS, Chapter 12—Calculation of Petroleum Quantities, Section 2—Calculation of Petroleum Quantities Using Dynamic Measurement Methods and Volumetric Correction Factors, Part 1—Introduction, Second Edition, May 1995; reaffirmed March 2002, Order No. H12021; incorporated by reference at § 250.1202(a)(3), (g)(1), (g)(2);

(38) API MPMS, Chapter 12—Calculation of Petroleum Quantities, Section 2—Calculation of Petroleum Quantities Using Dynamic Measurement Methods and Volumetric Correction Factors, Part 2—Measurement Tickets, Third Edition, June 2003, Product No. H12223; incorporated by reference at § 250.1202(a)(3), (g)(1), (g)(2);

(39) API MPMS, Chapter 14—Natural Gas Fluids Measurement, Section 3—Concentric, Square-Edged Orifice Meters, Part 1—General Equations and Uncertainty Guidelines, Third Edition, September 1990; reaffirmed January 2003, Order No. 852-30350; incorporated by reference at § 250.1203(b)(2);

(40) API MPMS, Chapter 14—Natural Gas Fluids Measurement, Section 3—Concentric, Square-Edged Orifice Meters, Part 2—Specification and Installation Requirements, Fourth Edition, April 2000; reaffirmed March 2006, Order No. H14324; incorporated by reference at § 250.1203(b)(2);

(41) API MPMS, Chapter 14—Natural Gas Fluids Measurement, Section 3—Concentric, Square-Edged Orifice Meters; Part 3—Natural Gas Applications; Third Edition, August 1992; Errata March 1994, reaffirmed, February 2009, Product No. H143303; incorporated by reference at § 250.1203(b)(2);

(42) API MPMS, Chapter 14.5/GPA Standard 2172-09; Calculation of Gross Heating Value, Relative Density, Compressibility and Theoretical Hydrocarbon Liquid Content for Natural Gas Mixtures for Custody Transfer; Third Edition, January 2009; Adopted as Tentative Standard, 1972; Revised and Adopted as Standard, 1976; Revised 1984, 1986, 1996, 2009; Product No. H140503; incorporated by reference at § 250.1203(b)(2);

(43) API MPMS, Chapter 14—Natural Gas Fluids Measurement, Section 6—Continuous Density Measurement, Second Edition, April 1991; reaffirmed, February 2006, Order No. H30346; incorporated by reference at § 250.1203(b)(2);

(44) API MPMS, Chapter 14—Natural Gas Fluids Measurement, Section 8—Liquefied Petroleum Gas Measurement, Second Edition, July 1997; reaffirmed, March 2006, Order No. H14082; incorporated by reference at § 250.1203(b)(2);

(45) API MPMS, Chapter 20—Section 1—Allocation Measurement, First Edition, September 1993; reaffirmed October 2006, Order No. 852-30701; incorporated by reference at § 250.1202(k)(1);

(46) API MPMS, Chapter 21—Flow Measurement Using Electronic Metering Systems, Section 1—Electronic Gas Measurement, First Edition, August 1993; reaffirmed, July 2005, Order No. 852-30730; incorporated by reference at § 250.1203(b)(4);

(47) API RP 2A-WSD, Recommended Practice for Planning, Designing and Constructing Fixed Offshore Platforms—Working Stress Design, Twenty-first Edition, December 2000; Errata and Supplement 1, December 2002; Errata and Supplement 2, September 2005; Errata and Supplement 3, October 2007; Product No. G2AWSD; incorporated by reference at § 250.901(a), (d); § 250.908(a); § 250.919(b)(2); § 250.920(a), (b), (c), (d), (e), (f);

(48) API RP 2D, Operation and Maintenance of Offshore Cranes, Sixth Edition, May 2007, Product No. G02D06; incorporated by reference at § 250.108(a);

(49) API RP 2FPS, RP for Planning, Designing, and Constructing Floating Production Systems; First Edition, March 2001, Order No. G2FPS1; incorporated by reference at § 250.901(a), (d);

(50) API RP 2I, In-Service Inspection of Mooring Hardware for Floating Structures; Third Edition, April 2008, Product No. G02I03; incorporated by reference at § 250.901(a), (d);

(51) API RP 2RD, Recommended Practice for Design of Risers for Floating Production Systems (FPSs) and Tension-Leg Platforms (TLPs), First Edition, June 1998; reaffirmed, May 2006, Errata, June 2009; Order No. G02RD1; incorporated by reference at § 250.800(b)(2); § 250.901(a), (d); § 250.1002(b)(5);

(52) API RP 2SK, Design and Analysis of Stationkeeping Systems for Floating Structures, Third Edition, October 2005, Addendum, May 2008, Product No. G2SK03; incorporated by reference at § 250.800(b)(3); § 250.901(a), (d);

(53) API RP 2SM, Recommended Practice for Design, Manufacture, Installation, and Maintenance of Synthetic Fiber Ropes for Offshore Mooring, First Edition, March 2001, Addendum, May 2007, Product No. G02SM1; incorporated by reference at § 250.901(a), (d);

(54) API RP 2T, Recommended Practice for Planning, Designing, and Constructing Tension Leg Platforms, Second Edition, August 1997, Order No. G02T02; incorporated by reference at § 250.901(a), (d);

(55) API RP 14B, Recommended Practice for Design, Installation, Repair and Operation of Subsurface Safety Valve Systems, Fifth Edition, October 2005, also available as ISO 10417: 2004, (Identical) Petroleum and natural gas industries—Subsurface safety valve systems—Design, installation, operation and redress, Product No. GX14B05; incorporated by reference at § 250.801(e)(4); § 250.804(a)(1)(i);

(56) API RP 14C, Recommended Practice for Analysis, Design, Installation, and Testing of Basic Surface Safety Systems for Offshore Production Platforms, Seventh Edition, March 2001, reaffirmed: March 2007; Product No. C14C07; incorporated by reference at § 250.125(a); § 250.292(j); § 250.802(b), (e)(2); § 250.803(a), (b)(2)(i), (b)(4), (b)(5)(i), (b)(7), (b)(9)(v), (c)(2); § 250.804(a), (a)(6); § 250.1002(d); § 250.1004(b)(9); § 250.1628(c), (d)(2); § 250.1629(b)(2), (b)(4)(v); § 250.1630(a);

(57) API RP 14E, Recommended Practice for Design and Installation of Offshore Production Platform Piping Systems, Fifth Edition, October 1991; reaffirmed, March 2007, Order No. 811-07185; incorporated by reference at § 250.802(e)(3); § 250.1628(b)(2), (d)(3);

(58) API RP 14F, Design, Installation, and Maintenance of Electrical Systems for Fixed and Floating Offshore Petroleum Facilities for Unclassified and Class I, Division 1 and Division 2 Locations, Fifth Edition, July 2008, Product No. G14F05; incorporated by reference at § 250.114(c); § 250.803(b)(9)(v); § 250.1629(b)(4)(v);

(59) API RP 14FZ, Recommended Practice for Design and Installation of Electrical Systems for Fixed and Floating Offshore Petroleum Facilities for Unclassified and Class I, Zone 0, Zone 1 and Zone 2 Locations, First Edition, September 2001, reaffirmed: March 2007; Product No. G14FZ1; incorporated by reference at § 250.114(c); § 250.803(b)(9)(v); § 250.1629(b)(4)(v);

(60) API RP 14G, Recommended Practice for Fire Prevention and Control on Fixed Open-type Offshore Production Platforms, Fourth Edition, April 2007; Product No. G14G04; incorporated by reference at § 250.803(b)(8), (b)(9)(v); § 250.1629(b)(3), (b)(4)(v);

(61) API RP 14H, Recommended Practice for Installation, Maintenance and Repair of Surface Safety Valves and Underwater Safety Valves Offshore, Fifth Edition, August 2007, Product No. G14H05; incorporated by reference at § 250.802(d); § 250.804(a)(5);

(62) API RP 14J, Recommended Practice for Design and Hazards Analysis for Offshore Production Facilities, Second Edition, May 2001; reaffirmed: March 2007; Product No. G14J02; incorporated by reference at § 250.800(b)(1); § 250.901(a)(14);

(63) API RP 53, Recommended Practices for Blowout Prevention Equipment Systems for Drilling Wells, Third Edition, March 1997; reaffirmed September 2004, Order No. G53003; incorporated by reference at § 250.442(c); § 250.446(a);

(64) API RP 65, Recommended Practice for Cementing Shallow Water Flow Zones in Deepwater Wells, First Edition, September 2002, Product No. G56001; incorporated by reference at § 250.415(e);

(65) API RP 500, Recommended Practice for Classification of Locations for Electrical Installations at Petroleum Facilities Classified as Class I, Division 1 and Division 2, Second Edition, November 1997; reaffirmed November 2002, Product No. C50002; incorporated by reference at § 250.114(a); § 250.459; § 250.802(e)(4)(i); § 250.803(b)(9)(i); § 250.1628(b)(3), (d)(4)(i); § 250.1629(b)(4)(i);

(66) API RP 505, Recommended Practice for Classification of Locations for Electrical Installations at Petroleum Facilities Classified as Class I, Zone 0, Zone 1, and Zone 2, First Edition, November 1997; reaffirmed November 2002, Order No. C50501; incorporated by reference at § 250.114(a); § 250.459; § 250.802(e)(4)(i); § 250.803(b)(9)(i); § 250.1628(b)(3), (d)(4)(i); § 250.1629(b)(4)(i);

(67) API RP 2556, Recommended Practice for Correcting Gauge Tables for Incrustation, Second Edition, August 1993; reaffirmed November 2003, Order No. H25560; incorporated by reference at § 250.1202(l)(4);

(68) ANSI/API Spec. Q1, Specification for Quality Programs for the Petroleum, Petrochemical and Natural Gas Industry, ISO TS 29001:2007 (Identical), Petroleum, petrochemical and natural gas industries—Sector specific requirements—Requirements for product and service supply organizations, Eighth Edition, December 2007, Effective Date: June 15, 2008, Product No. GXQ108; incorporated by reference at § 250.806(a)(2)(ii);

(69) API Spec. 2C, Specification for Offshore Pedestal Mounted Cranes, Sixth Edition, March 2004, Effective Date: September 2004, Product No. G02C06; incorporated by reference at § 250.108(c), (d);

(70) ANSI/API Spec. 6A, Specification for Wellhead and Christmas Tree Equipment, Nineteenth Edition, July 2004; Effective Date: February 1, 2005; Contains API Monogram Annex as Part of U.S. National Adoption; ISO 10423:2003 (Modified), Petroleum and natural gas industries—Drilling and production equipment—Wellhead and Christmas tree equipment; Errata 1, September 2004, Errata 2, April 2005, Errata 3, June 2006, Errata 4, August 2007, Errata 5, May 2009; Addendum 1, February 2008; Addendum 2, 3, and 4, December 2008; Product No. GX06A19; incorporated by reference at § 250.806(a)(3); § 250.1002(b)(1), (b)(2);

(71) API Spec. 6AV1, Specification for Verification Test of Wellhead Surface Safety Valves and Underwater Safety Valves for Offshore Service, First Edition, February 1, 1996; reaffirmed January 2003, Order No. G06AV1; incorporated by reference at § 250.806(a)(3);

(72) ANSI/API Spec. 6D, Specification for Pipeline Valves, Twenty-third Edition, April 2008; Effective Date: October 1, 2008, Errata 1, June 2008; Errata 2, November 2008; Errata 3, February 2009; Addendum 1, October 2009; Contains API Monogram Annex as Part of U.S. National Adoption; ISO 14313:2007 (Identical), Petroleum and natural gas industries—Pipeline transportation systems—Pipeline valves; Product No. GX6D23; incorporated by reference at § 250.1002(b)(1);

(73) ANSI/API Spec. 14A, Specification for Subsurface Safety Valve Equipment, Eleventh Edition, October 2005, Effective Date: May 1, 2006; also available as ISO 10432:2004, Product No. GX14A11; incorporated by reference at § 250.806(a)(3);

(74) ANSI/API Spec. 17J, Specification for Unbonded Flexible Pipe, Third Edition, July 2008; Effective Date: January 1, 2009, Contains API Monogram Annex as Part of U.S. National Adoption; ISO 13628-2:2006 (Identical), Petroleum and natural gas industries—Design and operation of subsea production systems—Part 2: Unbonded flexible pipe systems for subsea and marine application; Product No. GX17J03; incorporated by reference at § 250.803(b)(2)(iii); § 250.1002(b)(4); § 250.1007(a)(4);

(75) API Standard 2551, Measurement and Calibration of Horizontal Tanks, First Edition, 1965; reaffirmed March 2002, API Stock No. H25510; incorporated by reference at § 250.1202(l)(4);

(76) API Standard 2552, USA Standard Method for Measurement and Calibration of Spheres and Spheroids, First Edition, 1966; reaffirmed, October 2007 (ASTM designation: D 1408-65; date of joint API/ASTM approval, 1965); incorporated by reference at § 250.1202(l)(4);

(77) API Standard 2555, Method for Liquid Calibration of Tanks, First Edition, September 1966; reaffirmed March 2002; Order No. 852-25550; incorporated by reference at § 250.1202(l)(4).

(i) American Society for Testing and Materials (ASTM), ASTM Standards, 100 Bar Harbor Drive, P. O. Box C700, West Conshohocken, PA 19428-2959; http://www.astm.org; phone: 610-832-9500:

(1) ASTM Standard C 33-07, approved December 15, 2007, Standard Specification for Concrete Aggregates; incorporated by reference at § 250.901(a), (d);

(2) ASTM Standard C 94/C 94M-07, approved January 1, 2007, Standard Specification for Ready-Mixed Concrete; incorporated by reference at § 250.901(a), (d);

(3) ASTM Standard C 150-07, approved May 1, 2007, Standard Specification for Portland Cement; incorporated by reference at § 250.901(a), (d);

(4) ASTM Standard C 330-05, approved December 15, 2005, Standard Specification for Lightweight Aggregates for Structural Concrete; incorporated by reference at § 250.901(a), (d);

(5) ASTM Standard C 595-08, approved January 1, 2008, Standard Specification for Blended Hydraulic Cements; incorporated by reference at § 250.901(a), (d);

(j) American Welding Society (AWS), AWS Codes, 550 NW, LeJeune Road, Miami, FL 33126; http://www.aws.org; phone: 800-443-9353:

(1) AWS D1.1:2000, Structural Welding Code—Steel; incorporated by reference at § 250.901(a), (d);

(2) AWS D1.4-98, Structural Welding Code—Reinforcing Steel; incorporated by reference at § 250.901(a), (d);

(3) AWS D3.6M:1999, Specification for Underwater Welding; incorporated by reference at § 250.901(a), (d).

(k) National Association of Corrosion Engineers (NACE), NACE Standards, 1440 South Creek Drive, Houston, TX 77084; http://www.nace.org; phone: 281-228-6200:

(1) NACE Standard MR0175-2003, Item No. 21302, Standard Material Requirements, Metals for Sulfide Stress Cracking and Stress Corrosion Cracking Resistance in Sour Oilfield Environments; incorporated by reference at § 250.901(a), § 250.490(p)(2);

(2) NACE Standard RP0176-2003, Item No. 21018, Standard Recommended Practice, Corrosion Control of Steel Fixed Offshore Structures Associated with Petroleum Production; incorporated by reference at § 250.901(a), (d).

3. Amend § 250.803(b)(1) introductory text by revising the last sentence to read as follows:

§ 250.803 Additional production system requirements.

* * * * *

(b) * * *

(1) * * * Pressure and fired vessels must have maintenance inspection, rating, repair, and alteration performed in accordance with the applicable provisions of API Pressure Vessel Inspections Code: In-Service Inspection, Rating, Repair, and Alteration, API 510 (except Sections 5.8 and 9.5) (incorporated by reference as specified in § 250.198).

* * * * *

4. Amend § 250.806 by revising paragraph (a)(2)(i) to read as follows:

§ 250.806 Safety and pollution prevention equipment quality assurance requirements.

(a) * * *

(2) * * *

(i) ANSI/ASME SPPE-1-1994 and SPPE-1d-1996 Addenda, Quality Assurance and Certification of Safety and Pollution Prevention Equipment Used in Offshore Oil and Gas Operations; and

* * * * *

5. Amend § 250.901 by:

A. Revising paragraph (a)(1) and (a)(2);

B. Revising (a)(15) through (a)(19), and

C. Revising paragraphs (d)(1), (d)(7) through (d)(11), and (d)(16) in the table to read as follows:

§ 250.901 What industry standards must your platform meet?

* * * * *

(a) * * *

(1) ACI Standard 318-95, Building Code Requirements for Reinforced Concrete (ACI 318-95) and Commentary (ACI 318R-95) (incorporated by reference at § 250.198);

(2) ACI 357R-84, Guide for the Design and Construction of Fixed Offshore Concrete Structures, 1984; reapproved 1997 (incorporated by reference at § 250.198);

* * * * *

(15) American Society for Testing and Materials (ASTM) Standard C 33-07, approved December 15, 2007, Standard Specification for Concrete Aggregates (incorporated by reference as specified in § 250.198);

(16) ASTM Standard C 94/C 94M-07, approved January 1, 2007, Standard Specification for Ready-Mixed Concrete (incorporated by reference as specified in § 250.198);

(17) ASTM Standard C 150-07, approved May 1, 2007, Standard Specification for Portland Cement (incorporated by reference as specified in § 250.198);

(18) ASTM Standard C 330-05, approved December 15, 2005, Standard Specification for Lightweight Aggregates for Structural Concrete (incorporated by reference as specified in § 250.198);

(19) ASTM Standard C 595-08, approved January 1, 2008, Standard Specification for Blended Hydraulic Cements (incorporated by reference as specified in § 250.198);

* * * * *

(d) * * *

Industry standard | Applicable to:
* * * * * * *
(1) ACI Standard 318-95, Building Code Requirements for Reinforced Concrete (ACI 318-95) and Commentary (ACI 318R-95) | Fixed and floating platform, as appropriate.
* * * * * * *
(7) ASTM Standard C 33-07, approved December 15, 2007, Standard Specification for Concrete Aggregates; |
(8) ASTM Standard C 94/C 94M-07, approved January 1, 2007, Standard Specification for Ready-Mixed Concrete; |
(9) ASTM Standard C 150-07, approved May 1, 2007, Standard Specification for Portland Cement; |
(10) ASTM Standard C 330-05, approved December 15, 2005, Standard Specification for Lightweight Aggregates for Structural Concrete; |
(11) ASTM Standard C 595-08, approved January 1, 2008, Standard Specification for Blended Hydraulic Cements; |
* * * * * * *
(16) ACI 357R-84, Guide for the Design and Construction of Fixed Offshore Concrete Structures, 1984; reapproved 1997 | Fixed platforms
* * * * * * *

6. Amend § 250.1628 by revising paragraphs (b)(3) and (d)(4)(i) to read as follows:

§ 250.1628 Design, installation, and operation of production systems.

* * * * *

(b) * * *

(3) Electrical system information including a plan of each platform deck, outlining all hazardous areas classified according to API RP 500, Recommended Practice for Classification of Locations for Electrical Installations at Petroleum Facilities Classified as Class I, Division 1 and Division 2, or API RP 505, Recommended Practice for Classification of Locations for Electrical Installations at Petroleum Facilities Classified as Class I, Zone 0, Zone 1, and Zone 2 (incorporated by reference as specified in § 250.198), and outlining areas in which potential ignition sources are to be installed;

* * * * *

(d) * * *

(4) * * *

(i) A plan of each platform deck, outlining all hazardous areas classified according to API RP 500, Recommended Practice for Classification of Locations for Electrical Installations at Petroleum Facilities Classified as Class I, Division 1 and Divisions 2, or API RP 505, Recommended Practice for Classification of Locations for Electrical Installations at Petroleum Facilities Classified as Class I, Zone 0, Zone 1, and Zone 2 (incorporated by reference as specified in § 250.198), and outlining areas in which potential ignition sources are to be installed;

* * * * *

7. Amend § 250.1629 by:

A. Revising the last sentence of paragraph (b)(1) introductory text;

B. Revising paragraph (b)(3) introductory text; and

C. Revising the last sentence of paragraph (b)(4)(i).

The revisoins read as follows:

§ 250.1629 Additional production and fuel gas system requirements.

* * * * *

(b) * * *

(1) * * * Pressure and fired vessels must have maintenance inspection, rating, repair, and alteration performed in accordance with the applicable provisions of API Pressure Vessel Inspections Code: In-Service Inspection, Rating, Repair, and Alteration, API 510 (except Sections 5.8 and 9.5) (incorporated by reference as specified in § 250.198).

* * * * *

(3) Firefighting systems. Firefighting systems must conform to subsection 5.2, Fire Water Systems, of API RP 14G, Recommended Practice for Fire Prevention and Control on Open Type Offshore Production Platforms (incorporated by reference as specified in § 250.198), and must be subject to the approval of the District Manager. Additional requirements must apply as follows:

* * * * *

(4) * * *

(i) * * * A classified area is any area classified Class I, Group D, Division 1 or 2, following the guidelines of API RP 500 (incorporated by reference as specified in § 205.198), or any area classified Class I, Zone 0, Zone 1, or Zone 2, following the guidelines of API RP 505 (incorporated by reference as specified in § 205.198).

* * * * *

[FR Doc. 2010-9612 Filed 4-27-10; 8:45 am]

BILLING CODE 4310-MR-P